SMALL BUSINESS ADMINISTRATION

Public Federal Regulatory Enforcement Fairness Hearing; Region VII Regulatory Fairness Board

Pursuant to the Federal Advisory Committee Act, 5 U.S.C. Appendix 2, notice is hereby given that the U.S. Small Business Administration (SBA) Region VII Regulatory Fairness Board and the SBA Office of the National Ombudsman will hold a National Regulatory Fairness Hearing on Thursday, March 20, 2008, at 9 a.m. The forum is open to the public and will take place at the Wichita Chamber of Commerce, 350 West Douglas Avenue, Wichita, KS 67202. The purpose of the meeting is for Business Organizations, Trade Associations, Chambers of Commerce and related organizations serving small business concerns to report experiences regarding unfair or excessive Federal regulatory enforcement issues affecting their members.

Anyone wishing to attend or make a presentation must contact Sherry Clary, in writing or by fax, in order to be placed on the agenda. Sherry Clary, Marketing Assistant, SBA, Kansas District Office, 271 West 3rd Street North, Suite 2500, Wichita, KS 67202, phone (316) 269-6273, Ext. 223 and fax (202) 481-5591, e-mail: Sherryl.clary@sba.gov.

For more information, see our Web site at http://www.sba.gov/ombudsman.

Cherylyn LeBon,
Assistant Administrator for Intergovernmental Affairs, SBA Committee Management Officer.

[FR Doc. E8-4855 Filed 3-10-08; 8:45 am]

BILLING CODE 8025-01-P